DEPARTMENT OF ENERGY

Federal Energy Regulatory Commission

[Docket No. IC03-716-001, FERC-716]

Commission Information Collection Activities, Proposed Collection; Comment Request; Submitted for OMB Review

July 22, 2003.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of May 16, 2003 (68 FR 26591-92) and has made this notation in its submission to OMB.

DATES: Comments on the collection of information are due by August 21, 2003.

ADDRESSES: Address comments on the collection of information to the Office of Management and Budget, Office of Information and Regulatory Affairs, Attention: Federal Energy Regulatory Commission Desk Officer. The Desk Officer may be reached by contacted by fax: at 202-395-7285 or submitting comments electronically to pamelabeverly.oirasubmission@omb.eop.gov. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-716-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments may be viewed, printed or downloaded remotely via the Internet through FERC's homepage using the FERRIS link. User assistance for FERRIS and the FERC Web site during normal business hours by contacting FERC Online Support by e-mail at FERCOnlineSupport@ferc.gov or by telephone at 866-208-3676 (toll free) or TTY at 202-502-8659 or the Public Reference at (202)-8371, TTY (202) 502-8659 or by e-mail to public.reference.room@ferc.gov.

FOR FURTHER INFORMATION CONTACT: Michael Miller may be reached by telephone at (202) 502-8415, by fax at (202)273-0873, and by e-mail at michael.miller@ferc.gov.

SUPPLEMENTARY INFORMATION:

Description

The information collection submitted for OMB review contains the following:

1. Collection of Information: FERC-716 “Good Faith Request for Transmission Services and Response by Transmitting Utility Under sections 211(a) and 213(a) of the Federal Power Act.”

2. Sponsor: Federal Energy Regulatory Commission.

3. Control No.: 1902-0170.

The Commission is now requesting that OMB approve a three-year extension of the expiration date, with no changes to the existing collection. The information filed with the Commission is mandatory. Requests for confidential treatment of the information are provided for under section 388.112 of the Commission's regulations.

4. Necessity of the Collection of Information: Submission of the information is necessary to enable the Commission to carry out its responsibilities in implementing the statutory provisions of sections 211 and 213 of the Federal Power Act(FPA), as amended by the Energy Policy Act of 1992, 16 U.S.C. 824j and 824l. Section 211(a) allows any electric utility, Federal power marketing agency or any other person generating electric energy for sale or resale to apply for an order requiring a transmitting utility to provide transmission services to the applicant. The Commission may issue an order only if the applicant has requested the transmission services from the transmitting utility at least 60 days before applying to the Commission. Accordingly, a request for transmission services is a condition upon which the Commission may order service under section 211. Section 213(a) of the FPA requires a response by the transmitting utility to a good faith request. Unless the transmitting utility agrees to provide such services as rates, charges, terms and conditions acceptable to the person making the request, the transmitting utility, within 60 days of its receipt of the request, or other mutually agreed upon period, provides the person making the request with a detailed written explanation with specific reference to the facts and circumstances of the request including the basis for the proposed rates, charges, terms and conditions for the services as well as any physical constraints that would affect performing the services.

The information is not filed with the Commission, however, the request and response may be analyzed as part of a section 211 proceeding. This collection of information covers the information that must be contained in the request and the response.

Under the revised section 211, the Commission may order transmission services if it finds that such action would be in the public interest, would not unreasonably impair the continued reliability of electric systems affected by the order, and would meet the requirements of amended section 211 of the FPA. The Commission implements these filing requirements in the Code of Federal Regulations (CFR) under 18 CFR part 2.20.

5. Respondent Description: The respondent universe currently comprises 12 companies (on average) subject to the Commission's jurisdiction.

6. Estimated Burden: 1,000 total hours, 10 respondents(average), 1 response per respondent, 100 hours (20 hours for the transmission requestor and 80 hours for the transmitting utility's response) (average).

7. Estimated Cost Burden to respondents: 1,000 hours / 2080 hours per years × $117,041 per year = $56,270. The cost per respondent is equal to $5,627.00.

Statutory Authority: Sections 211(a), 212, 213(a) of the Federal Power Act, 16 U.S.C. 824j-l and Sections 721-723 of the Energy Policy Act of 1992. (Pub L. 102-486).

Magalie R. Salas,
Secretary.

[FR Doc. 03-19233 Filed 7-28-03; 8:45 am]

BILLING CODE 6717-01-P